DEPARTMENT OF THE INTERIOR

Minerals Management Service

Environmental Documents Prepared for Proposed Oil and Gas Operations on the Gulf of Mexico Outer Continental Shelf (OSC)

AGENCY: Minerals Management Service, Interior.

ACTION: Notice of the availability of environmental documents prepared for OCS minerals proposals of the Gulf of Mexico OCS.

SUMMARY: The Minerals Management Service (MMS), in accordance with Federal Regulations (40 CFR 1501.4 and 1506.6) that implement the National Environmental Policy Act (NEPA), announces the availability of NEPA-related Site-Specific Environmental Assessments (SEA's) and Findings of No Significant Impact (FONSI's), prepared by the MMS for the following oil and gas activities proposed on the Gulf of Mexico OCS. This listing includes all proposals for which the FONSI's were prepared by the Gulf of Mexico OCS Region in the period subsequent to publication of the preceding notice.

Activity/Operator | Location | Date
Coastal Oil & Gas Corporation, Pipeline Activity, SEA No. P-12384 (G-21469) | Main Pass Area, Blocks 265, 264, 263, 280, and 281, Lease OCS-G 21469, 70 miles off the coast of Alabama | 01/07/00
Fugro GeoServices, Inc., G&G Activity, SEA No. M00-01 | Bayou La Batre, Alabama to Piney Point in Tampa Bay, Florida | 01/19/00
Coastal Oil & Gas Corporation, Structure Removal Operations, SEA No. ES/SR 99-129 | Main Pass Area, Block 243, Lease OCS-G 5726, 44 miles east of Plaquemines Parish, Louisiana | 11/03/99
Coastal Oil & Gas Corporation, Structure Removal Operations, SEA Nos. ES/SR 99-130, 99-131, 99-142, and 99-143 | Main Pass Area, Blocks 244, 227, and 265, Leases OCS-G 5727, 6825, and 4834, 47 miles east of Plaquemines Parish, Louisiana | 11/01/99
Apache Corporation, Structure Removal Operations, SEA No. ES/SR 99-135 | West Cameron Area, Block 607, Lease OCS-G 10602, 111 miles south of Cameron Parish, Louisiana | 10/22/99
Prime Natural Resources, Inc., Structure Removal Operations, SEA No. ES/SR 99-136 | Eugene Island Area, Block 196, Lease OCS-G 0802, 43 miles southwest of Terrebonne Parish, Louisiana | 10/15/99
Chevron U.S.A. Inc., Structure Removal Operations, SEA No. ES/SR 99-137 | Main Pass Area, Block 42, Lease OCS-G 1367, 19 miles east of Plaquemines Parish, Louisiana | 10/22/99
Chevron U.S.A. Inc., Structure Removal Operations, SEA Nos. ES/SR 99-138 and 99-139 | Eugene Island Area, Blocks 229 and 230, Leases OCS-G 5505 and 0979, 46 miles southwest of Terrebonne Parish, Louisiana | 11/01/99
Marathon Oil Company, Structure Removal Operations, SEA Nos. ES/SR 99-140 and 99-141 | East Cameron Area, Block 313, Lease OCS-G 8656, 95 miles south of Cameron Parish, Louisiana | 10/22/99
Fairways Specialty Sales and Service, Inc., Structure Removal Operations, SEA No. ES/SR 99-144 | Galveston Area, Block A-34, Lease OCS-G 12514, 35 miles southeast of Brazoria County, Texas | 10/27/99
Murphy Exploration & Production Company, Structure Removal Operations, SEA No. ES/SR 99-145 | Matagorda Island Area, Block 710, Lease OCS-G 10205, 30 miles east of Aransas County, Texas | 10/09/99
Ocean Energy, Inc., Structure Removal Operations, SEA No. ES/SR 99-146 | Eugene Island Area, Block 119, Lease OCS-G 0049, 23 miles southwest of Terrebonne Parish, Louisiana | 11/09/99
Samedan Oil Corporation, Structure Removal Operations, SEA Nos. ES/SR 99-147 and 99-148 | Grand Isle Area, Block 79, Lease OCS-G 5657, Vermilion Area, Block 162, Lease OCS-G 5419, 40 miles from the nearest shoreline offshore the Louisiana Coast | 12/14/99
Ocean Energy, Inc., Structure Removal Operations, SEA No. ES/SR 99-149 | Eugene Island Area, Block 119, Lease OCS-G 0049, 23 miles southwest of Terrebonne Parish, Louisiana | 12/30/99
Range Resources Corporation, Structure Removal Operations, SEA Nos. ES/SR 99-150 and 99-151 | Mustang Island Area, Block 847, Lease OCS-G 6011, 24 miles Offshore Kleberg County, Texas | 12/30/99

Persons interested in reviewing environmental documents for the proposals listed above or obtaining information about EA's and FONSI's prepared for activities on the Gulf of Mexico OCS are encouraged to contact the MMS office in the Gulf of Mexico OCS Region.

FOR FURTHER INFORMATION: Public Information Unit, Information Services Section, Gulf of Mexico OCS Region, Minerals Management Service, 1201 Elmwood Park Boulevard, New Orleans, Louisiana 70123-2394, Telephone (504) 736-2519.

SUPPLEMENTARY INFORMATION: The MMS prepares EA's and FONSI's for proposals which relate to exploration for and the development/production of oil and gas resources on the Gulf of Mexico OCS. The EA's examine the potential environmental effects of activities described in the proposals and present MMS conclusions regarding the significance of those effects. Environmental Assessments are used as a basis for determining whether or not approval of the proposals constitutes major Federal actions that significantly affect the quality of the human environment in the sense of NEPA Section 102(2)(C). A FONSI is prepared in those instances where the MMS finds that approval will not result in significant effects on the quality of the human environment. The FONSI briefly presents the basis for that finding and includes a summary or copy of the EA.

This notice constitutes the public notice of availability of environmental documents required under the NEPA Regulations.

Dated: January 31, 2000.
Chris C. Oynes,
Regional Director, Gulf of Mexico OCS Region.

[FR Doc. 00-2639 Filed 2-4-00; 8:45 am]

BILLING CODE 4310-MR-P